DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than May 23, 2008.

Interested persons are invited to submit written comments regarding the subject matter of the investigations to the Director, Division of Trade Adjustment Assistance, at the address shown below, not later than May 23, 2008.

The petitions filed in this case are available for inspection at the Office of the Director, Division of Trade Adjustment Assistance, Employment and Training Administration, U.S. Department of Labor, Room C-5311, 200 Constitution Avenue, NW., Washington, DC 20210.

Signed at Washington, DC, this 25th day of April 2008.
Linda G. Poole,
Certifying Officer, Division of Trade Adjustment Assistance.

Appendix
[TAA petitions instituted between 4/21/08 and 4/25/08]
TA-W | Subject firm (petitioners) | Location | Date of institution | Date of petition
63218 | Weyerhaeuser Company I Level Veneer Technologies (Comp) | Junction City, OR | 04/21/08 | 04/09/08
63219 | OCV Fabrics, Inc. (Comp) | Ridgeway, SC | 04/21/08 | 04/17/08
63220 | Starbrook Industries, Inc. (Comp) | Covington, OH | 04/21/08 | 04/14/08
63221 | IAC Corporation (Comp) | Dayton, TN | 04/21/08 | 04/16/08
63222 | Brockway Mould, Inc. (USW) | Brockport, PA | 04/21/08 | 04/08/08
63223 | San Diego Union-Tribune (Wkrs) | San Diego, CA | 04/21/08 | 04/10/08
63224 | Intermedia Marketing Solutions (Wkrs) | Indiana, PA | 04/21/08 | 04/17/08
63225 | Chicago Pneumatic Tool Company, LLC (Wkrs) | Charlotte, NC | 04/21/08 | 04/15/08
63226 | Semperian, GMAC, LLC (Wkrs) | Eugene, OR | 04/21/08 | 04/12/08
63227 | Mohawk (a divison of Bolden Wire and Cable) (Wkrs) | Leominster, MA | 04/21/08 | 04/14/08
63228 | Galey & Lord, LLC (Comp) | Columbus, GA | 04/22/08 | 04/21/08
63229 | Krohne, Inc. (State) | Peabody, MA | 04/22/08 | 04/22/08
63230 | Value City Department Store #152 (Wkrs) | Uniontown, PA | 04/22/08 | 04/21/08
63231 | Steelcase, Inc. (Comp) | Grand Rapids, MI | 04/22/08 | 04/18/08
63232 | GAE Warren, LLC (Comp) | Warren, OH | 04/22/08 | 04/21/08
63233 | MPC Computers, LLC (Comp) | La Vergne, TN | 04/23/08 | 04/22/08
63234 | Consoltex International, Inc. (Comp) | New York, NY | 04/23/08 | 04/22/08
63235 | South Print, Inc. (Wkrs) | Reidsville, NC | 04/23/08 | 04/22/08
63236 | Avaya, Inc. (State) | Westminster, CO | 04/23/08 | 04/22/08
63237 | Ven Ply, Inc. (State) | High Point, NC | 04/23/08 | 04/23/08
63238 | Alliance Industries, Inc. (Comp) | Troy, IN | 04/23/08 | 04/22/08
63239 | The Hertz Corporation (Wkrs) | Oklahoma City, OK | 04/24/08 | 04/21/08
63240 | Bartlett Corporation (Comp) | Muncie, IN | 04/24/08 | 04/23/08
63241 | Kataddin Precision Components (Comp) | Bangor, ME | 04/24/08 | 04/18/08
63242 | Perry Marketing Corporation (Comp) | Miami, FL | 04/24/08 | 04/23/08
63243 | Leiner Health Products (Wkrs) | Wilson, NC | 04/24/08 | 04/24/08
63244 | RFMD (Wkrs) | Greensboro, NC | 04/25/08 | 04/24/08
63245 | Alchem Aluminum Shelbyville, Inc. (Comp) | Shelbyville, TN | 04/25/08 | 04/24/08
63246 | I.H.S. Warehousing, Inc. (Comp) | Midland, MI | 04/25/08 | 04/18/08
63247 | AGC Flat Glass North America, Inc. (AFLCIO) | Church Hill, TN | 04/25/08 | 04/23/08
63248 | Polytech Coating Labs of USA, Inc. (Comp) | Reading, PA | 04/25/08 | 04/24/08
63249 | Starkey Northwest (Wkrs) | Portland, OR | 04/25/08 | 04/23/08
63250 | Ripley Complex (Comp) | Ripley, MS | 04/25/08 | 04/22/08
63251 | Culp Woven Velvets (Comp) | Anderson, SC | 04/25/08 | 04/23/08
63252 | LSI Corporation (Comp) | Wichita, KS | 04/25/08 | 04/24/08

[FR Doc. E8-10582 Filed 5-12-08; 8:45 am]

BILLING CODE 4510-FN-P